ENVIRONMENTAL PROTECTION AGENCY

[EPA-R09-OAR-2010-0208; FRL-9152-5]

Adequacy Determination for the Motor Vehicle Emissions Budgets in the Truckee Meadows PM10 Maintenance Plan for Transportation Conformity Purposes; State of Nevada

AGENCY: Environmental Protection Agency (EPA).

ACTION: Notice of adequacy.

SUMMARY: In this notice, EPA is notifying the public that the Agency has found that motor vehicle emissions budgets (MVEBs) for particles with an aerodynamic diameter of a nominal 10 microns or less (PM10), contained in the Redesignation Request and Maintenance Plan for the Truckee Meadows 24-Hour PM10 Non-Attainment Area (“Truckee Meadows PM10 Maintenance Plan”), are adequate for transportation conformity purposes. The Truckee Meadows PM10 Maintenance Plan was submitted to EPA on July 13, 2009 by the Nevada Division of Environmental Protection as a revision to the Nevada State Implementation Plan. As a result of our adequacy finding, the Washoe County Regional Transportation Commission and the U.S. Department of Transportation must use these budgets in future conformity analyses.

DATES: This finding is effective June 2, 2010.

FOR FURTHER INFORMATION CONTACT: Eleanor Kaplan, U.S. EPA, Region IX, Air Division AIR-2, 75 Hawthorne Street, San Francisco, CA 94105-3901; (415) 947-4147 or kaplan.eleanor@epa.gov.

SUPPLEMENTARY INFORMATION: Throughout this document, whenever “we,” “us,” or “our” is used, we mean EPA.

Today's notice is simply an announcement of a finding that we have already made. EPA Region IX sent a letter to the Nevada Division of Environmental Protection on May 5, 2010 stating that the motor vehicle emissions budgets for PM10 in the submitted Truckee Meadows PM10 Maintenance Plan are adequate. Receipt of these motor vehicle emissions budgets was announced on EPA's transportation conformity Web site on January 19, 2010, and no comments were submitted. The finding is available at EPA's conformity Web site: http://www.epa.gov/otaq/stateresources/transconf/adequacy.htm.

The Truckee Meadows PM10 Maintenance Plan identifies PM10 MVEBs for the Truckee Meadows nonattainment area for years 2009, 2013, 2018 and 2020. The adequate budgets are presented in the following table:

Truckee Meadows PM10 Maintenance Plan Motor Vehicle Emissions Budgets, Truckee Meadows Nonattainment Area
[Winter season, pounds per day]
2009 Emissions Budget | 21,195
2013 Emissions Budget | 20,871
2018 Emissions Budget | 20,836
2020 Emissions Budget | 20,816

Transportation conformity is required by Clean Air Act section 176(c). EPA's conformity rule requires that transportation plans, transportation improvement programs, and projects conform to state air quality implementation plans (SIPs) and establishes the criteria and procedures for determining whether or not they do conform. Conformity to a SIP means that transportation activities will not produce new air quality violations, worsen existing violations, or delay timely attainment of the national ambient air quality standards.

The criteria by which we determine whether a SIP's motor vehicle emissions budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and should not be used to prejudge EPA's ultimate approval action for the SIP. Even if we find a budget adequate, the SIP could later be disapproved.

Authority: 42 U.S.C. 7401 et seq.

Dated: April 30, 2010.
Jared Blumenfeld,
Regional Administrator, Region IX.

[FR Doc. 2010-11831 Filed 5-17-10; 8:45 am]

BILLING CODE 6560-50-P